SECURITIES AND EXCHANGE COMMISSION

[SEC File No. 270-049, OMB Control No. 3235-0070]

Submission for OMB Review; Comment Request: Extension: Form 10-Q

Upon Written Request Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget this request for extension of the previously approved collection[s] of information discussed below.

Form 10-Q (17 CFR 249.308a) is filed by issuers of securities to satisfy their quarterly reporting obligations pursuant to Section 13 or 15(d) of the Exchange Act (“Exchange Act”) (15 U.S.C. 78m or 78o(d)). The information provided by Form 10-Q is intended to ensure the adequacy of information available to investors about an issuer. Form 10-Q takes approximately 182.08663 hours per response to prepare and is filed by approximately 22,925 respondents. We estimated that 75% of the approximately 182.08663 hours per response (136.56497 hours) is prepared by the company for an annual reporting burden of 3,130,752 hours (136.56497 hours per response × 22,925 responses).

An agency may conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by August 25, 2022 to (i) www.reginfo.gov/public/do/PRAMain and (ii) David Bottom, Director/Chief Information Officer, Securities and Exchange Commission, c/o John Pezzullo, 100 F Street NE, Washington, DC 20549, or by sending an email to: PRA_Mailbox@sec.gov.

Dated: July 20, 2022.
J. Matthew DeLesDernier,
Deputy Secretary.

[FR Doc. 2022-15911 Filed 7-25-22; 8:45 am]

BILLING CODE 8011-01-P